DEPARTMENT OF AGRICULTURE

Food and Nutrition Service

[FNS-2017-0044]

Food Crediting in Child Nutrition Programs: Request for Information; Extension of Comment Period

AGENCY: Food and Nutrition Service (FNS), USDA.

ACTION: Notice; Extension of Comment Period.

SUMMARY: The National School Lunch Program, School Breakfast Program, Child and Adult Care Food Program, and Summer Food Service Program (Child Nutrition Programs), which are administered by the United States Department of Agriculture (USDA), Food and Nutrition Service (FNS), play a critical role in ensuring that America's children have access to the nutritious food they need to learn and succeed in the classroom, afterschool, and during the summer. It is FNS' responsibility to establish and support the meal patterns and nutrition standards (collectively referred to as meal patterns) in the Child Nutrition Programs that advance the goals of providing nutritious and satisfying meals to a broad population of children. At the same time, FNS works to simplify the menu planning process for Program operators to promote the efficient use of Program funds and provide a wide variety of food choices to menu planners and children.

In order to claim Federal reimbursement, Child Nutrition Program operators must serve meals and snacks that meet the minimum meal pattern requirements of the respective Program. Crediting is the process designed by FNS to specify how individual food items contribute to the Child Nutrition Programs' meal patterns. Several factors impact how food products can credit toward reimbursable meals, such as volume, weight, and overall nutrient profile.

The purpose of this Request for Information is to help FNS gather feedback from a wide variety of stakeholders on how FNS' crediting system can best address today's evolving food and nutrition environment, as well as to offer first-rate customer service to those operating and benefitting from the Child Nutrition Programs. FNS welcomes comments from all interested stakeholders. While FNS is interested in your general comments about the crediting process, FNS also invites comments on the crediting of several specific food products. FNS is especially interested in understanding both the possible benefits and any negative impacts associated with potential changes to how certain foods may or may not credit.

FNS is extending the comment period to provide additional time for interested parties to review this Request for Information.

DATES: The comment period for the Request for Information that was published on December 14, 2017 (82 FR 58792) has been extended from February 12, 2018 to April 23, 2018. To be assured of consideration, comments must be received on or before April 23, 2018.

ADDRESSES:

Preferred method: Submit information through the Federal eRulemaking Portal at http://www.regulations.gov. Follow the online instructions for submissions.

Mail: Submissions should be addressed to School Programs Branch, Policy and Program Development Division, Food and Nutrition Service, 3101 Park Center Drive, 12th floor, Alexandria, Virginia 22302.

All comments submitted in response to this notice will be included in the record and will be made available to the public at http://www.regulations.gov. Please be advised that the substance of the comments and the identity of the individuals or entities commenting will be subject to public disclosure.

FOR FURTHER INFORMATION CONTACT: Tina Namian, Branch Chief, Policy and Program Development, Child Nutrition Programs, Food and Nutrition Service at (703) 305-2590.

SUPPLEMENTARY INFORMATION:

I. Background

Child Nutrition Programs' Nutrition Standards

One of the United States Department of Agriculture (USDA), Food and Nutrition Service's (FNS) highest priorities is to ensure that participants in the National School Lunch Program (NSLP), School Breakfast Program (SBP), Child and Adult Care Food Program (CACFP), and Summer Food Service Program (SFSP) (collectively referred to as the Child Nutrition Programs) receive wholesome, nutritious, and tasty meals. The Richard B. Russell National School Lunch Act (NSLA) and the Child Nutrition Act of 1966 (CNA) authorize FNS to establish meal patterns and nutrition standards (collectively referred to as meal patterns) for the Child Nutrition Programs. The NSLA requires FNS to develop meal patterns that are consistent with the recommendations of the most recent Dietary Guidelines for Americans (Dietary Guidelines) and current nutrition research.

The Child Nutrition Programs' meal patterns establish the foods and minimum serving sizes that must be served for a meal or snack to be reimbursable. The meal patterns are currently based on food groups (components), not individual nutrients. A reimbursable meal or snack includes a certain amount (or combination) of vegetables, fruits, fluid milk, grains, and meats or meat alternates (e.g., protein foods, such as chicken, and dairy foods, such as yogurt). Each Child Nutrition Program has individualized meal patterns for the various age and grade groups that participate in the Program. The meal patterns were created to enable children to be self-sufficient by providing the adequate and consistent levels of foods and nutrients children need to learn and grow, as well as help children build healthy habits that can last a lifetime.

Crediting Methodology

Crediting is the process established by FNS to determine how individual foods contribute to the Child Nutrition Programs' meal patterns. A food is considered creditable when it meets the minimum standards that count toward a reimbursable meal or snack. Generally, this means foods are grouped into categories of similar foods which are credited in a similar way.

The main focus of FNS' crediting system is to provide simple information that allows Child Nutrition Program operators to (1) easily plan menus with foods and quantities that meet the meal patterns, and (2) offer foods in a way that encourages healthy habits and teaches children how to build balanced meals. Crediting information is conveyed through resources such as FNS' Food Buying Guide for Child Nutrition Programs and other technical assistance materials.

A number of factors impact how foods credit toward a reimbursable meal. It is critical that crediting decisions be made on the fullest range of factors possible to ensure transparency and consistency in the crediting process. The overall nutrient profile of a food is a primary consideration. Foods in each food component are based on a range of nutrients instead of an individual food's nutrient profile. For example, foods in the meats/meat alternates component are grouped based on a collection of nutrients that include protein, B vitamins, selenium, choline, phosphorus, zinc, and copper. Therefore, different varieties of meat (e.g., lean beef versus turkey) are not currently evaluated separately based on their protein content. The volume or weight of the food is also an important factor in making crediting determinations. All meats/meat alternates and grains are credited in ounces equivalencies. Fruits, vegetables, and fluid milk are credited based on volume served.

In addition, foods that credit toward a reimbursable meal in the Child Nutrition Programs sometimes have a Federal standard of identity. Standards of identity are established by the U.S. Food and Drug Administration (FDA) and the USDA Food Safety and Inspection Service (FSIS). They are mandatory requirements that determine what a food must contain to be marketed under a certain name. For example, for a product to be labeled peanut butter, it must meet the standard of identity requirements that specify the amount and type of ingredients that may be included. Standards of identity assist FNS in crediting because they provide a common standard under which specific foods are made. This allows FNS to set crediting policy with confidence that products from all manufacturers will have the same characteristics and, thus, make a consistent contribution to the meal patterns. There are some products on the commercial market that do not have an FDA or FSIS standard of identity, but have industry-defined standards. FNS first considers Federal standards of identity when making crediting decisions. When a Federal standard of identity does not exist, then FNS may use industry standards for production to better understand the manufacturing process.

FNS also considers the customary use of a product. For example, some foods are typically consumed as a snack food and have not been considered appropriate for including as part of a meal in the Child Nutrition Programs. Therefore, they are currently not creditable. This is discussed more in section II. Questions and Answers. Finally, FNS considers the role of the Child Nutrition Program in teaching children healthy eating habits when making crediting decisions.

Purpose and Scope

FNS' objective in issuing this Request for Information is to receive input from a broad spectrum of stakeholders to assist FNS in making informed decisions on how FNS' crediting system can best address today's evolving food and nutrition environment, ensure children have access to the nutrition they need, and offer excellent customer service to those operating and benefitting from the Child Nutrition Programs. It is important that FNS' crediting system balances the nutritional needs of the Child Nutrition Programs' participants, as recommended by the Dietary Guidelines, and the need to offer flexibility and a wide range of choices. FNS recognizes that new or reformulated food products are regularly entering the food market. These new or reformulated food products can offer more choices to menu planners and children.

FNS is especially interested in understanding both the possible benefits and any negative impacts associated with potential changes to how certain foods may or may not credit. As such, FNS is seeking feedback from all interested stakeholders on the questions listed below. Some questions address specific foods due to a high volume of interest in those products. However, FNS is open to feedback about the creditability of other food products as well (see Questions 20-25) and crediting process in general. Additionally, while all comments are welcome, FNS is particularly interested in comments that are consistent with the current statutory framework for the Child Nutrition Programs.

II. Questions

Factors To Determine Crediting

FNS currently considers the following factors when making crediting decisions:

• Volume or weight of the food. All meats/meat alternates and grains are credited in ounces. Fruits, vegetables, and fluid milk are credited based on volume served. However, dried fruit credits at twice the volume served and raw, leafy greens credit as half the volume served. Additionally, tomato puree and tomato paste credit as if they were reconstituted, instead of as volume served.

1. Is it appropriate to continue to credit foods based on the volume or weight served, with the few exceptions discussed above? Why or why not?

2. What are the benefits and negative impacts of having different crediting values for different forms of vegetables and fruits?

• Overall nutrient profile. Foods in each component are based on a range of nutrients instead of an individual food's nutrient profile. For example, foods in the meats/meat alternates component are grouped based on a collection of nutrients that include protein, B vitamins, selenium, choline, phosphorus, zinc, copper, and vitamins D and E. Generally, FNS has not considered fortification in the creditability of foods.

3. Should fortification play a role in determining if and how a food is credited in the Child Nutrition Programs? Why or why not?

4. Is the presence of certain nutrients more important than other nutrients when determining if and how a food credits in the Child Nutrition Programs? Why or why not?

• Federal standards of identity and industry standards of production. Many creditable food products in the Child Nutrition Programs have Federal standards of identity or industry standards for production. Standards of identity assist FNS in crediting because they ensure food products with the same name have the same characteristics and, therefore, make a consistent contribution to the meal patterns.

5. If a food product does not have a Federal standard of identity or industry standards for production, how could these food products credit in the Child Nutrition Programs? Please be as specific as possible.

• Customary use of the food product. Some foods are generally consumed as snacks and, therefore, have not been considered appropriate for service in the Child Nutrition Programs. In other cases, the volume of food required to meet the minimum serving size would be unreasonably large. In other cases, such products do credit. For example, tortillas and tortilla products, such as taco shells, may credit as a grain item in the Child Nutrition Programs because in certain cultures they are served as the grain component of a meal. (Please see below for more information about snack-type foods.)

6. Is it appropriate to continue to consider the customary use of a product when determining how a food credits in the Child Nutrition Programs? Why or why not?

• The role of the Child Nutrition Program in teaching children healthy eating habits. Meals and snacks served in the Child Nutrition Programs act as a teaching tool for children by visually demonstrating how to build a healthy, balanced meal with the key food groups and amounts recommended by the Dietary Guidelines. For example, although pasta made from lentils has a standard of identity and may be used in all Child Nutrition Programs, in order for the pasta to credit as a vegetable, it must be served with another vegetable, such as broccoli or tomato sauce, to help children recognize the vegetable component. Likewise, lentil pasta can credit as a meat alternate if it is served with another meat/meat alternate, such as chicken or black beans.

7. What role should such educational considerations play in determining the creditability of a food in the Child Nutrition Programs?

8. Are there other factors FNS should consider in determining how foods credit in the Child Nutrition Programs? Why or why not?

9. Are there additional ways FNS can make the crediting process more simple, fair, or transparent? Please be as specific as possible.

Foods From the Meat/Meat Alternate Component

Shelf-stable, Dried or Semi-dried Meat, Poultry, and Seafood Snacks, and Surimi: Currently, shelf stable, dried and semi-dried meat, poultry, and seafood products, such as beef jerky or summer sausage, (collectively referred to as dried meat/poultry/seafood snacks) currently do not credit towards the Child Nutrition Programs' meal patterns. These foods have a Federal standard of identity that varies widely, there is a wide variety of industry standards for production, and they are typically seen as snack-type foods. However, FNS understands these products may be appealing to some Child Nutrition Program operators because dried meat/poultry/seafood snacks are shelf stable, work well with alternative meal delivery methods, such as breakfast in the classroom and lunches for field trips, and provide more choices to menu planners and children. Similarly, surimi, which is whitefish that is processed to resemble more expensive seafood and labeled as “imitation,” such as imitation crab, does not credit towards the Child Nutrition Programs' meal patterns. Surimi lacks an FDA standard of identity and there is a wide variety of industry standards for production. Additionally, foods labeled as “imitation” may have significantly different nutrition profiles than the foods they are meant to replace. To assist reviewers in adequately compiling public feedback, please provide separate comments on dried meat/poultry/seafood snacks, and imitation crab.

10. Are Child Nutrition Program operators currently offering any of these foods as an extra item that does not contribute to the Child Nutrition Programs' meal patterns? If so, which ones?

10a. If yes, how are they being served (e.g., as an extra component at snack) and how often?

11. Should FNS allow any of these foods to contribute to the Child Nutrition Programs' meal patterns? Why or why not?

12. If any of these foods are allowed to contribute to the Child Nutrition Programs' meal patterns, how should they be credited? Be as specific as possible, such as the volume or weight needed, or a specific nutrient content.

12a. Is there an ingredient or processing method that would qualify or disqualify these products?

13. If any of these foods are allowed to contribute to the Child Nutrition Programs' meal patterns, would Child Nutrition Program operators incorporate these foods into menus to meet the meats/meat alternates requirement? Why or why not?

13a. If yes, how would they be served (e.g., at snack, as part of a reimbursable lunch)?

14. If any of these foods are allowed to contribute to the Child Nutrition Programs' meal patterns, how would this impact the Child Nutrition Programs, including its participants and operators? What are the potential benefits and negative impacts?

Yogurt: Yogurt may be used to meet all or part of the meats/meat alternates component. It may be plain or flavored, unsweetened or sweetened, traditional (non-strained or non-thickened) or Greek or Greek-style (high protein, strained or thickened). Four ounces (weight) or ½ cup (volume) of traditional or high protein yogurt is credited as one ounce equivalent of meat alternate. This crediting was based on public comment (62 FR 10187, April 1997) and acknowledges the relatively low levels of iron and niacin in yogurt compared to other foods from the meats/meat alternates component. Since then, high protein yogurt has increased in popularity and availability. As such, FNS was asked to consider whether it would be beneficial to allow a lesser volume of high protein yogurt to credit toward the meat/meat alternate component compared to traditional yogurt. The rationale for this request was that high protein yogurt contains a higher level of protein per ounce versus traditional yogurt. Currently, crediting has not been based on an individual food's nutrient profile, or any one nutrient. That is, the contribution of a food towards the meat/meat alternate requirement is not based solely on the grams of protein. For example, different varieties of meat (e.g., lean beef versus turkey) are not evaluated separately based on their protein content.

15. Are Child Nutrition Program operators currently offering high protein yogurt as part of a reimbursable meal?

16. Should FNS create a separate crediting standard for high protein yogurt that is different than the crediting standard for traditional yogurt for the Child Nutrition Programs? Why or why not?

17. If high protein yogurt is allowed to contribute differently to the Child Nutrition Programs' meal patterns than traditional yogurt, how should high protein yogurt be credited? Be as specific as possible, such as the volume or weight needed.

17a. Is there an ingredient or processing method that could qualify or disqualify a particular yogurt from crediting in the Child Nutrition Programs (e.g., a particular thickening agent could disqualify a high protein yogurt)?

18. If high protein yogurt is allowed to contribute differently to the Child Nutrition Programs' meal patterns than traditional yogurt, would Child Nutrition Program operators take advantage of using it to meet the meats/meat alternates requirement? Why or why not?

18a. If yes, how would Child Nutrition Program operators serve it (e.g., at snack, as part of a reimbursable lunch)?

19. If high protein yogurt is allowed to contribute differently to the Child Nutrition Programs' meal patterns than traditional yogurt, how would this impact the Child Nutrition Programs, including its participants and operators, as well as food manufacturers? What are the potential benefits and negative impacts?

Other Foods Not Currently Creditable

In the past, FNS has chosen not to credit a small number of other foods in the Child Nutrition Programs because these foods do not meet the requirement for any food component in the Child Nutrition Programs' meal patterns. For various reasons this has occurred, including being considered snack-type foods, lacking a standard of identity, or because the volume of food required to meet the minimum serving size would be unreasonably large. For example, foods such as popcorn, vegetable chips (does not include chips made from grain such as tortilla chips), bacon, and tempeh are currently not creditable for the aforementioned reasons. A list of various foods that do not currently credit in the Child Nutrition Programs is available in FNS' Food Buying Guide for Child Nutrition Programs under “Other Foods” (see https://fns.usda.gov/sites/default/files/tn/fbg-section5-other.pdf). Comments on any foods currently not creditable in the Child Nutrition Programs are welcome, using the following questions as a guide.

20. Are Child Nutrition Program operators currently offering any of these foods as an extra item that does not contribute to the Child Nutrition Programs' meal patterns? If so, which ones?

21. Should FNS allow any of these foods to contribute to the Child Nutrition Programs' meal patterns? Why or why not? If so, which ones?

22. If any of these foods are allowed to contribute to the Child Nutrition Programs' meal patterns, how should they be credited? Be as specific as possible, such as the volume or weight needed, or a specific nutrient content.

22a. Is there an ingredient, processing method, or nutrient standard (e.g., sodium content) that should qualify or disqualify any of these foods?

23. If any of these foods are allowed to contribute to the Child Nutrition Programs' meal patterns, would Child Nutrition Program operators incorporate them into menus to meet the Child Nutrition Programs' meal patterns? Why or why not?

23a. If yes, how would they be served (e.g., as part of a reimbursable snack)?

24. If any of these foods are allowed to contribute to the Child Nutrition Programs' meal patterns, how would this impact the Child Nutrition Programs, including its participants and operators, as well as food manufacturers? What are the potential benefits and negative impacts?

25. Are there additional products not mentioned in this request for information that are currently not creditable, but you would wish to provide comments on? Please be as specific as possible.

FNS appreciates your thoughtful and responsive comments. FNS welcomes comments from all interested stakeholders and will consider all of them carefully. Your comments are essential to enabling FNS to provide first rate customer service to those we serve.

Dated: February 13, 2018.
Brandon Lipps,
Administrator, Food and Nutrition Service.

[FR Doc. 2018-03376 Filed 2-16-18; 8:45 am]

BILLING CODE 3410-30-P